DEPARTMENT OF AGRICULTURE

Animal and Plant Health Inspection Service

[Docket No. 01-064-2]

Animal Disease Risk Assessment, Prevention, and Control Act

AGENCY: Animal and Plant Health Inspection Service, USDA.

ACTION: Notice of change of date for public meeting and extension of comment period.

SUMMARY: We are announcing a change in the date of a public meeting regarding the development of a report required by the Animal Disease Risk Assessment, Prevention, and Control Act of 2001 and are extending the period during which we will accept comments on the subject. The report will discuss the economic impacts that would be associated with the potential introduction of foot-and-mouth disease, bovine spongiform encephalopathy, and related diseases into the United States; the potential risks posed by those diseases to public and animal health; and recommendations to protect the health of animal herds and U.S. citizens from those risks. We will use the information gathered through public comments to assist us in developing this report. Extending the comment period and postponing the meeting will allow interested persons additional time to prepare and submit comments.

DATES: We invite you to comment on Docket No. 01-064-1, published in the Federal Register (66 FR 41195-41197) on August 7, 2001. We will consider all comments that we receive by October 9, 2001. We will also consider comments made at a public meeting that will be held on September 28, 2001, from 9 a.m. to noon.

ADDRESSES: Please send four copies of your comment (an original and three copies) to: Docket No. 01-064-1, Regulatory Analysis and Development, PPD, APHIS, Suite 3C03, 4700 River Road Unit 118, Riverdale, MD 20737-1238. Please state that your comment refers to Docket No. 01-064-1.

We will also accept comments electronically via the Animal Disease Risk Assessment, Prevention, and Control website at http://comments.aphis.usda.gov.

You may read any comments that we receive on Docket No. 01-064-1 in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

The public meeting will be held at the USDA Center at Riverside, 4700 River Road, Riverdale, MD, Conference Rooms C and D.

FOR FURTHER INFORMATION CONTACT: Mr. William O. Macheel, Policy and Program Development, APHIS, 4700 River Road Unit 120, Riverdale, MD 20737-1236; (301) 734-4420.

SUPPLEMENTARY INFORMATION: On August 7, 2001, we published in the Federal Register (66 FR 41195-41197, Docket No. 01-064-1) a notice regarding the Animal Disease Risk Assessment, Prevention, and Control Act of 2001. In that notice, we solicited comments on the development of a report required by that Act and announced that we would be hosting a public meeting on that subject.

Comments on the development of the report were required to be received on or before September 6, 2001, and the public meeting was scheduled to take place on August 24, 2001. We are extending the comment period on Docket No. 01-064-1 for an additional 30 days until October 9, 2001. We are also postponing the public meeting; that meeting is now scheduled for September 28, 2001. This action will allow interested persons additional time to prepare and submit comments.

Done in Washington, DC, this 16th day of August 2001.
Bobby R. Acord,
Acting Administrator, Animal and Plant Health Inspection Service.

[FR Doc. 01-21089 Filed 8-20-01; 8:45 am]

BILLING CODE 3410-34-U